DEPARTMENT OF COMMERCE

International Trade Administration

[C-570-968]

Aluminum Extrusions From the People's Republic of China: Preliminary Results, Preliminary Intent To Rescind, in Part, and Partial Rescission of Countervailing Duty Administrative Review; 2013

AGENCY: Enforcement and Compliance, International Trade Administration, Department of Commerce.

SUMMARY: In response to multiple requests from interested parties, the Department of Commerce (the Department) is conducting an administrative review of the countervailing duty order ¹ on aluminum extrusions from the People's Republic of China (PRC). The period of review (POR) is January 1, 2013 through December 31, 2013. We preliminarily determine that the Guang Ya Group ² and the Jangho Companies ³ (mandatory respondents) received countervailable subsidies during the POR. Interested parties are invited to comment on these preliminary results of review.

¹ See Aluminum Extrusions from the People's Republic of China: Countervailing Duty Order, 76 FR 30653 (May 26, 2011) (Order).

² For purposes of this administrative review, the Guang Ya Group includes Guang Ya Aluminium Industries Co. Ltd.; Foshan Guangcheng Aluminium Co., Ltd.; and Yonghi Guanghai Aluminium Industry Co., Ltd. Also, these companies submitted responses on the record of this review clarifying the usage of “Aluminium” in its name, rather than “Aluminum,” the form on which we both received a request for review and/or on which we initiated this review.

³ For purposes of this administrative review, the Jangho companies includes Guangzhou Jangho Curtain Wall System Engineering Co., Ltd., (Guangzhou Jangho); Jangho Group Co., Ltd. (Jangho Group Co.); Beijing Jiangheyuan Holding Co., Ltd (Beijing Jiangheyuan); Beijing Jangho Curtain Wall System Engineering Co., Ltd. (Beijing Jangho); and Shanghai Jangho Curtain Wall System Engineering Co., Ltd., (Shanghai Jangho).

DATES: Effective Date: June 9, 2015.

FOR FURTHER INFORMATION CONTACT: Davina Friedmann, Tyler Weinhold or Robert James, AD/CVD Operations, Office VI, Enforcement and Compliance, International Trade Administration, U.S. Department of Commerce, 14th Street and Constitution Avenue NW., Washington, DC 20230; telephone: (202) 482-0698, (202) 482-1121 or (202) 482-0649, respectively.

SUPPLEMENTARY INFORMATION:

Scope of the Order

The merchandise covered by the Order is aluminum extrusions which are shapes and forms, produced by an extrusion process, made from aluminum alloys having metallic elements corresponding to the alloy series designations published by The Aluminum Association commencing with the numbers 1, 3, and 6 (or proprietary equivalents or other certifying body equivalents).⁴

⁴ See Memorandum from Christian Marsh, Deputy Assistant Secretary for Antidumping and Countervailing Duty Operations to Ronald K. Lorentzen, Acting Assistant Secretary for Enforcement and Compliance, “Decision Memorandum for Preliminary Results of Countervailing Duty Administrative Review: Aluminum Extrusions from the People's Republic of China,” dated concurrently with this notice (Preliminary Decision Memorandum) for a complete description of the scope of the Order.

Imports of the subject merchandise are provided for under the following categories of the Harmonized Tariff Schedule of the United States (HTSUS): 7610.10.00, 7610.90.00, 7615.10.30, 7615.10.71, 7615.10.91, 7615.19.10, 7615.19.30, 7615.19.50, 7615.19.70, 7615.19.90, 7615.20.00, 7616.99.10, 7616.99.50, 8479.89.98, 8479.90.94, 8513.90.20, 9403.10.00, 9403.20.00, 7604.21.00.00, 7604.29.10.00, 7604.29.30.10, 7604.29.30.50, 7604.29.50.30, 7604.29.50.60, 7608.20.00.30, 7608.20.00.90, 8302.10.30.00, 8302.10.60.30, 8302.10.60.60, 8302.10.60.90, 8302.20.00.00, 8302.30.30.10, 8302.30.30.60, 8302.41.30.00, 8302.41.60.15, 8302.41.60.45, 8302.41.60.50, 8302.41.60.80, 8302.42.30.10, 8302.42.30.15, 8302.42.30.65, 8302.49.60.35, 8302.49.60.45, 8302.49.60.55, 8302.49.60.85, 8302.50.00.00, 8302.60.90.00, 8305.10.00.50, 8306.30.00.00, 8418.99.80.05, 8418.99.80.50, 8418.99.80.60, 8419.90.10.00, 8422.90.06.40, 8479.90.85.00, 8486.90.00.00, 8487.90.00.80, 8503.00.95.20, 8515.90.20.00, 8516.90.50.00, 8516.90.80.50, 8708.80.65.90, 9401.90.50.81, 9403.90.10.40, 9403.90.10.50, 9403.90.10.85, 9403.90.25.40, 9403.90.25.80, 9403.90.40.05, 9403.90.40.10, 9403.90.40.60, 9403.90.50.05, 9403.90.50.10, 9403.90.50.80, 9403.90.60.05, 9403.90.60.10, 9403.90.60.80, 9403.90.70.05, 9403.90.70.10, 9403.90.70.80, 9403.90.80.10, 9403.90.80.15, 9403.90.80.20, 9403.90.80.30, 9403.90.80.41, 9403.90.80.51, 9403.90.80.61, 9506.51.40.00, 9506.51.60.00, 9506.59.40.40, 9506.70.20.90, 9506.91.00.10, 9506.91.00.20, 9506.91.00.30, 9506.99.05.10, 9506.99.05.20, 9506.99.05.30, 9506.99.15.00, 9506.99.20.00, 9506.99.25.80, 9506.99.28.00, 9506.99.55.00, 9506.99.60.80, 9507.30.20.00, 9507.30.40.00, 9507.30.60.00, 9507.90.60.00, and 9603.90.80.50

The subject merchandise entered as parts of other aluminum products may be classifiable under the following additional Chapter 76 subheadings: 7610.10, 7610.90, 7615.19, 7615.20, and 7616.99 as well as under other HTSUS chapters. In addition, fin evaporator coils may be classifiable under HTSUS numbers: 8418.99.80.50 and 8418.99.80.60. While HTSUS subheadings are provided for convenience and customs purposes, the written description of the scope of this Order is dispositive.

The Department is conducting two scope inquiries concerning aluminum extrusions made from 5 series aluminum alloy. Petitioner (Aluminum Extrusions Fair Trade Committee) advocates that the Department impose a certification requirement related to these products, which the Department is considering in the context of these scope proceedings. Parties that wish to file comments on this potential certification requirement must do so on the record of these scope proceedings.⁵ The final scope rulings, including our decision with respect to the certification issue, are currently due July 7, 2015.

⁵ See Letter from Trending Imports LLC to the Department, “Aluminum Extrusions from the People's Republic of China: Trending Imports LLC Request for Scope Ruling Concerning 5050 Alloy Extrusions,” dated December 12, 2013, and Letter from Kota International, LTD to the Department, “Antidumping Duty and Countervailing Duty Orders on Aluminum Extrusions from the People's Republic of China: Scope Ruling Request,” dated October 21, 2013.

The Department is conducting two scope inquiries concerning aluminum extrusions made from 5 series aluminum alloy. Petitioner (Aluminum Extrusions Fair Trade Committee) advocates that the Department impose a certification requirement related to these products, which the Department is considering in the context of these scope proceedings. Parties that wish to file comments on this potential certification requirement must do so on the record of these scope proceedings.⁶ The final scope rulings, including our decision with respect to the certification issue, are currently due July 7, 2015.

⁶ See letter from Trending entitled, “Aluminum Extrusions from the People's Republic of China: Trending Imports LLC Request for Scope Ruling Concerning 5050 Alloy Extrusions,” dated December 12, 2013, and letter from Kota entitled, “Antidumping Duty and Countervailing Duty Orders on Aluminum Extrusions from the People's Republic of China: Scope Ruling Request,” dated October 21, 2013.

Methodology

The Department conducted this review in accordance with section 751(a)(1)(A) of the Tariff Act of 1930, as amended (the Act). For each of the subsidy programs found countervailable, we preliminarily find that there is a subsidy, i.e., a government-provided financial contribution that gives rise to a benefit to the recipient, and that the subsidy is specific.⁷ For a full description of the methodology underlying all of the Department's conclusions, including our reliance, in part, on adverse facts available pursuant to sections 776(a) and (b) of the Act, see the Preliminary Decision Memorandum.

⁷ See Sections 771(5)(B) and (D) of the Act regarding financial contribution; section 771(5)(E) of the Act regarding benefit; and section 771(5A) of the Act regarding specificity.

A list of topics discussed in the Preliminary Decision Memorandum is provided as an Appendix to the notice. The Preliminary Decision Memorandum is a public document and is on file electronically via Enforcement and Compliance's Antidumping and Countervailing Duty Centralized Electronic Service System (ACCESS). ACCESS is available to registered users at http://access.trade.gov and in the Central Records Unit, room 7046 of the main Department of Commerce building. In addition, a complete version of the Preliminary Decision Memorandum can be accessed directly on the Internet at http://www/trade.gov/frn/index.html. The signed Preliminary Decision Memorandum is identical in content.

We were not able to make a preliminary determination concerning the countervailability of certain programs because we require additional information and/or need more time to consider information that was received close to the date of these preliminary results.⁸ We intend to address these programs in a post-preliminary analysis memorandum.

⁸ See the Preliminary Decision Memorandum at section “Programs For Which We Do Not Yet Have Sufficient Information.”

Partial Rescission of Review

For those companies named in the Initiation Notice ⁹ for which all review requests have been timely withdrawn, we are rescinding this administrative review in accordance with 19 CFR 351.213(d)(1). These companies are listed at Appendix II to this notice. For these companies, countervailing duties shall be assessed at rates equal to the rates of the cash deposits for estimated countervailing duties required at the time of entry, or withdrawal from warehouse, for consumption, during the period January 1, 2013 through December 31, 2013, in accordance with 19 CFR 351.212(c)(2).

⁹ See Initiation of Antidumping and Countervailing Duty Administrative Reviews, 79 FR 36462 (June 27, 2014) (Initiation Notice).

Intent To Rescind Administrative Review, In Part

Between August 1, 2014 and September 5, 2014, the Department received timely no-shipment certifications from certain companies.¹⁰ Because there is no evidence on the record to indicate that these companies had entries of subject merchandise during the POR, pursuant to 19 CFR 351.213(d)(3), we intend to rescind the review with respect to these companies. A final decision regarding whether to rescind the review of these companies will be made in the final results of this review.

¹⁰ See the accompanying Preliminary Decision Memorandum for a list of such companies under the section entitled, “Intent to Partially Rescind Review and Partial Rescission of Review.”

Preliminary Rate for Non-Selected Companies Under Review

There are 37 companies for which a review was requested and not rescinded, but were not selected as mandatory respondents. For these companies, we preliminarily did not calculate the non-selected rate using a methodology of weight-averaging rates of the Guang Ya Group and Jangho Group because doing so risks disclosure of proprietary information. Instead, we calculated an average rate using the mandatory respondents' publicly-ranged sales data for 2013. For further information on the calculation of the non-selected rate, refer to the section in the Preliminary Decision Memorandum entitled, “Preliminary Ad Valorem Rate for Non-Selected Companies Under Review.”

For those companies that failed to respond to the Department's quantity and value questionnaire, we have relied on facts available, determined that those companies are non-cooperative and, on that basis, we found that application of adverse facts available is warranted in determining the subsidy rate for those companies. For further discussion of this determination, refer to the section in the Preliminary Decision Memorandum entitled, “Use of Facts Otherwise Available and Adverse Inferences.”

Preliminary Results of Administrative Review

As a result of this administrative review, we preliminarily determine the following net subsidy rates for 2013:

Company | 2013 Ad valorem rate (percent)
Guang Ya Group ¹¹ | 4.83
Jangho Companies ¹² | 1.61
Dynamic Technologies China Ltd | 158.96
Foreign Trade Co. of Suzhou New & High Tech Industrial Development Zone | 158.96
Foshan Shunde Aoneng Electrical Appliances Co., Ltd | 158.96
Golden Dragon Precise Copper Tube Group | 158.96
WTI Building Products, Ltd | 158.96
Zhaoqing Asia Aluminum Factory Company Ltd | 158.96
Allied Maker Limited | 1.81
Alnan Aluminum Co. Ltd | 1.81
Barcalente Metal Producers (Suzhou) Co. Ltd | 1.81
Changzhou Changzheng Evaporator Co., Ltd | 1.81
Classic & Contemporary Inc. | 1.81
Danfoss Micro Channel Heat Exchanger (Jia Xing) Co. Ltd | 1.81
Dongguan Golden Tiger Hardware Industrial Co., Ltd | 1.81
Ever Extend Ent. Ltd | 1.81
Fenghua Metal Product Factory | 1.81
Guandong JMA Aluminum Profile (Group) Co., Ltd ¹³ | 1.81
Guangdong Whirlpool Electrical Appliances Co. Ltd | 1.81
Guangdong Zhongya Aluminum Company Limited | 1.81
Hanyung Alcobis Co., Ltd | 1.81
Hangyung Metal (Suzhou) Co., Ltd | 1.81
Henan New Kelong Electrical Appliances, Co., Ltd | 1.81
IDEX Dinglee Technology (Tianjin) Co., Ltd | 1.81
IDEX Technology Suzhou Co., Ltd | 1.81
Jiangsu Susun Group (HK) Co., Ltd | 1.81
Justhere Co., Ltd | 1.81
Kromet International Inc. | 1.81
Metaltek Group Co. Ltd | 1.81
North Fenghua Aluminum Limited | 1.81
Nidec Sankyo Singapore Pte. Ltd | 1.81
Nanhai Textiles Import & Export Co., Ltd | 1.81
Permasteelisa Hong Kong Ltd | 1.81
Permasteelisa South China Factory | 1.81
Sapa Profiles (Shanghai) Co., Ltd | 1.81
Shanghai Tongtai Precise Aluminum Alloy Manufacturing Co., Ltd | 1.81
Shenyang Yuanda Aluminum Industry Engineering Co., Ltd | 1.81
Taishan City Kam Kiu Aluminum Extrusion Co., Ltd | 1.81
Taizhou United Imp & Exp Co Ltd | 1.81
Union Industry (Asia) Co., Limited | 1.81
Whirlpool Microwave Products Development Ltd | 1.81
Zhejiang Dongfeng Refrigeration Components Co. Ltd | 1.81
Zhongya Shaped Aluminum (HK) Holding Limited | 1.81
Zhongshan Daya Hardware Co., Ltd | 1.81
Zhaoqing New Zhongya Aluminum Co., Ltd | 1.81

Disclosure and Public Comment

The Department intends to disclose to interested parties the calculations performed in connection with these preliminary results within five days of the date of publication of this notice.¹⁴ As a result of the Department's intention to release a post-preliminary analysis memorandum, interested parties may submit case briefs on both the preliminary results and on the post-preliminary analysis memorandum no later than seven days after the disclosure of the calculations performed in connection with the post-preliminary analysis memorandum.¹⁵ Rebuttal briefs, limited to issues raised in the case briefs, may be filed no later than five days after the date for filing case briefs.¹⁶ Parties who submit case briefs or rebuttal briefs in this proceeding are encouraged to submit with each argument: (1) A statement of the issue; (2) a brief summary of the argument; and (3) a table of authorities.¹⁷ Case and rebuttal briefs should be filed electronically using ACCESS.¹⁸

¹¹ See Footnote 2.

¹² See Footnote 3.

¹³ Petitioner requested a review of Guangdong JMA Aluminum Profile Factory (Group) Co., Ltd. See Letter from the Aluminum Extrusions Fair Trade Committee regarding, “Aluminum Extrusions from the People's Republic of China: Request for Administrative Review,” dated June 2, 2014 (Petitioner's Request for Review). See also, Letter from Guangdong JMA Aluminium Profile Factory (Group) Co., Ltd regarding “Aluminum Extrusions from China; Administrative Review Request,” dated May 23, 2014. However, in the Department's Initiation Notice, this company's name was spelled Guandone JMA Aluminum Profile Factory (Group) Co., Ltd. Accordingly, this notice serves as a correction to the spelling of this company's name.

¹⁴ See 19 CFR 351.224(b).

¹⁵ See 19 CFR 351.309(c)(2).

¹⁶ See 19 CFR 351.309(d).

¹⁷ See 19 CFR 351.309(c)(2) and (d)(2).

¹⁸ See 19 CFR 351.303.

Pursuant to 19 CFR 351.310(c), interested parties who wish to request a hearing, or to participate if one is requested, must submit a written request to the Assistant Secretary for Enforcement and Compliance, filed electronically via ACCESS. An electronically filed document must be received successfully in its entirety by the Department's electronic records system, ACCESS, by 5:00 p.m. Eastern Standard Time within 30 days after the date of publication of this notice.¹⁹ Requests should contain: (1) The party's name, address, and telephone number; (2) the number of participants; and (3) a list of issues to be discussed. Issues raised in the hearing will be limited to those raised in the respective case briefs. If a request for a hearing is made, parties will be notified of the date and time of the hearing to be held at the U.S. Department of Commerce, 14th Street and Constitution Avenue NW., Washington, DC 20230.

¹⁹ See 19 CFR 351.310(c).

Unless the deadline is extended pursuant to section 751(a)(3)(A) of the Act, the Department intends to issue the final results of this administrative review, including the results of its analysis of the issues raised in all written case briefs, within 120 days after the date of publication of this notice, pursuant to section 751(a)(3)(A) of the Act and 19 CFR 351.213(h)(1).

Assessment Rates

Upon completion of the administrative review, the Department shall determine, and U.S. Customs and Border Protection (CBP) shall assess, countervailing duties on all appropriate entries covered by this review. We intend to issue assessment instructions to CBP 15 days after publication of the final results of this review.

Cash Deposit Requirements

The Department also intends to instruct CBP to collect cash deposits of estimated countervailing duties in the amounts indicated above for each company listed on shipments of subject merchandise entered, or withdrawn from warehouse, for consumption on or after the date of publication of the final results of this administrative review. For all non-reviewed firms, we will instruct CBP to collect cash deposits of estimated countervailing duties at the most recent company-specific or all-others rate applicable to the company, as appropriate. These cash deposit requirements, when imposed, shall remain in effect until further notice.

Notification to Interested Parties

We are issuing and publishing these preliminary results in accordance with sections 751(a)(1) and 777(i)(1) of the Act and 19 CFR 351.213.

Dated: June 1, 2015.
Ronald K. Lorentzen,
Acting Assistant Secretary for Enforcement and Compliance.

Appendix I—List of Topics Discussed in the Preliminary Decision Memorandum

Summary

Background

Scope of the Order

Subsidies Valuation Information

Loan Benchmark Rates

Use of Facts Otherwise Available and Adverse Inferences

Analysis of Programs

Programs for Which Additional Information Is Needed

Programs Preliminarily Determined Not To Confer Measurable Benefit or Not Used

Preliminary Ad Valorem Rate for Non-Selected Companies Under Review

Preliminary Ad Valorem Rate for Non-Cooperatived Companies Under Review

Appendix II—List of Companies on Which We Are Rescinding This Administrative Review ²⁰

²⁰ One company on which the review was initiated, tenKsolar Inc., provided a certified submission of its role as a U.S. importer located within the United States. See Letter from tenKSolar (Shanghai) Co., Ltd. regarding, “Aluminum Extrusions from the People's Republic of China—Quantity and Value Questionnaire Response,” dated September 4, 2014. Because tenKsolar is a U.S. importer, we are rescinding the review of this entity.

1. Acro Import and Export Co.

2. Activa International Inc.

3. Aluminicaste Fundicion de Mexico

4. Changshu Changshen Aluminum Products Co., Ltd.

5. Changzhou Tenglong Auto Parts Co., Ltd.

6. China Zhongwang Holdings, Ltd.

7. Chiping One Stop Industrial & Trade Co., Ltd.

8. Clear Sky Inc.

9. Cosco (J.M.) Aluminum Co., Ltd.

10. Dongguan Aoda Aluminum Co., Ltd.²¹

²¹ Petitioner requested a review of Dongguang Aoda Aluminum Co., Ltd. See Letter from the Aluminum Extrusions Fair Trade Committee regarding, “Aluminum Extrusions from the People's Republic of China: Request for Administrative Review,” dated June 2, 2014. However, in the Department's initiation notice, this company's name was spelled Dongguan Aoda Aluminum Co., Ltd. Accordingly, this notice serves as a correction to the spelling of this company's name.

11. Dragonluxe Limited

12. Dynabright International Group (HK) Limited

13. First Union Property Limited

14. Foshan City Nanhai Hongjia Aluminum alloy Co., Ltd.

15. Foshan Jinlan Aluminum Co. Ltd.

16. Foshan JMA Aluminum Company Limited

17. Foshan Shanshui Fenglu Aluminum Co., Ltd.

18. Foshan Yong Li Jian Alu. Ltd.

19. Fujian Sanchuan Aluminum Co., Ltd.

20. Global PMX Dongguan Co., Ltd.

21. Global Point Technology (Far East) Limited

22. Gold Mountain International Development, Ltd.

23. Gran Cabrio Capital Pte. Ltd.

24. Gree Electric Appliances

25. GT88 Capital Pte. Ltd.

26. Guangdong Hao Mei Aluminum Co., Ltd.

27. Guangdong Jianmei Aluminum Profile Company Limited

28. Guangdong Nanhai Foodstuffs Imp. & Exp. Co., Ltd.

29. Guangdong Weiye Aluminum Factory Co., Ltd.

30. Guangdong Xingfa Aluminum Co., Ltd.

31. Guangdong Xin Wei Aluminum Products Co., Ltd.

32. Guangdong Yonglijian Aluminum Co., Ltd

33. Hangzhou Xingyi Metal Products Co., Ltd.

34. Hanwood Enterprises Limited

35. Hao Mei Aluminum Co., Ltd.

36. Hao Mei Aluminum International Co., Ltd.

37. Hong Kong Gree Electric Appliances Sales Limited

38. Honsense Development Company

39. Hui Mei Gao Aluminum Foshan Co., Ltd.

40. Idex Health

41. Innovative Aluminum (Hong Kong) Limited

44. iSource Asia

45. Jiangmen Qunxing Hardware Diecasting Co., Ltd.

46. Jiangsu Changfa Refrigeration Co., Ltd.

47. Jiangyin Trust International Inc

48. Jiangyin Xinhong Doors and Windows Co., Ltd.

49. Jiaxing Jackson Travel Products Co., Ltd.

50. Jiaxing Taixin Metal Products Co., Ltd.

51. Jiuyan Co., Ltd.

52. JMA (HK) Company Limited

53. Kam Kiu Aluminum Products Sdn Bhd

54. Kanal Precision Aluminum Product Co., Ltd.

55. Karlton Aluminum Company Ltd.

56. Kunshan Giant Light Metal Technology Co., Ltd.

57. Liaoning Zhongwang Group Co., Ltd.

58. Liaoyang Zhongwang Aluminum Profiled Co. Ltd.

59. Longkou Donghai Trade Co., Ltd.

60. Massoud & Bros. Co., Ltd.

61. Metaltek Metal Industry Co., Ltd.

62. Midea Air Conditioning Equipment Co., Ltd.

63. Midea International Trading Co., Ltd./Midea International Trading Co., Ltd.

64. Miland Luck Limited

65. New Asia Aluminum & Stainless Steel Product Co., Ltd.

66. Nidec Sankyo (Zhejiang) Corporation

67. Ningbo Coaster International Co., Ltd.

68. Ningbo Hi Tech Reliable Manufacturing Company

69. Ningbo Lakeside Machiery Factory ²²

²² Homax Group Inc. (Homax) requested a review of Ningbo Lakeside Machinery Factory. See Letter from the Homax regarding, “Aluminum Extrusions from the People's Republic of China: Request for Third Administrative Review of Countervailing Duty Order,” dated May 30, 2014. However, in the Department's initiation notice, this company's name was spelled Ningbo Lakeside Machiery Factory. Accordingly, this notice serves as a correction to the spelling of this company's name.

70. Ningbo Minmetals & Machinery Imp. & Exp. Corp.

71. Ningbo Yili Import and Export Co., Ltd.

72. North China Aluminum Co., Ltd.

73. Northern States Metals

74. PanAsia Aluminum (China) Limited

75. Pengcheng Aluminum Enterprise Inc.

76. Pingguo Aluminum Company Limited

77. Pingguo Asia Aluminum Co., Ltd.

78. Popular Plastics Company Limited

79. Press Metal International Ltd

80. Samuel, Son & Co., Ltd.

81. Sanchuan Aluminum Co., Ltd.

82. Shangdong Huasheng Pesticide Machinery Co.

83. Shangdong Nanshan Aluminum Co., Ltd.

84. Shanghai Automobile Air Conditioner Accessories Ltd.

85. Shanghai Canghai Aluminum Tube Packaging Co., Ltd

86. Shanghai Dongsheng Metal

87. Shanghai Shen Hang Imp & Exp Co., Ltd.

88. Shenzhen Hudson Technology Development Co., Ltd.

89. Shenzhen Jiuyuan Co., Ltd.

90. Sihui Shi Guo Yao Aluminum Co., Ltd.

91. Sincere Profit Limited

92. Skyline Exhibit Systems (Shanghai) Co., Ltd.

93. Suzhou JRP Import & Export Co., Ltd.

94. Suzhou New Hongji Precesion Part Co

95. Tai-Ao Aluminum (Taishan) Co. Ltd.

96. Taizhou Lifeng Manufacturing Corporation

97. tenKsolar (Shanghai) Co., Ltd.

98. tenKsolar, Inc.

98. Taogoasei America Inc./Toagoasei America Inc.

99. Tianjin Ganglv Nonferrous Metal Materials Co., Ltd.

100.Tianjin Jinmao Import & Export Corp., Ltd.

101. Tianjin Ruxin Electric Heat Transmission Technology Co., Ltd.

102. Tianjin Xiandai Plastic & Aluminum Products Co., Ltd.

103. Tiazhou Lifeng Manufacturing Corporation/Taizhou Lifeng Manufacturing Corporation, Ltd.

104. Top-Wok Metal Co., Ltd.

105. Traffic Brick Network, LLC

106. USA Worldwide Door Components (Pinghu) Co., Ltd.

107. Wenzhou Shengbo Decoration & Hardware

108. Whirlpool (Guangdong)

109. Xin Wei Aluminum Company Limited

110. Xinya Aluminum & Stainless Steel Product Co., Ltd.

111. Zhejiang Anji Xinxiang Aluminum Co., Ltd.

112. Zhejiang Yongkang Listar Aluminum Industry Co., Ltd.

113. Zhejiang Zhengte Group Co., Ltd.

114. Zhenjiang Xinlong Group Co., Ltd.

115. Zhongshan Gold Mountain Aluminum Factory Ltd.

116. Zhuhai Runxingtai Electrical Equipment Co., Ltd.

[FR Doc. 2015-14076 Filed 6-8-15; 8:45 am]

BILLING CODE 3510-DS-P